ENVIRONMENTAL PROTECTION AGENCY

[OECA-2004-0014; FRL-7814-4]

Agency Information Collection Activities; Submission for OMB Review and Approval; Comment Request; NSPS for Rubber Tire Manufacturing (Renewal), ICR Number 1158.08, OMB Number 2060-0156

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on October 31, 2004. Under OMB regulations, the Agency may continue to conduct or sponsor the collection of information while this submission is pending at OMB. This ICR describes the nature of the information collection and its estimated burden and cost.

DATES: Additional comments may be submitted on or before October 18, 2004.

ADDRESSES: Submit your comments, referencing docket ID number OECA-2004-0014, to (1) EPA online using EDOCKET (our preferred method), by e-mail to docket.oeca@epa.gov, or by mail to: Environmental Protection Agency, EPA Docket Center (EPA/DC), Enforcement and Compliance Docket and Information Center, EPA West, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Maria Malave, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On May 25, 2004 (69 FR 29718), EPA sought comments on this ICR pursuant to 5 CFR 1320.8(d). EPA received no comments.

EPA has established a public docket for this ICR under Docket ID No. OECA-2004-0014, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS for Rubber Tire Manufacturing (40 CFR part 60, subpart BBB) (Renewal).

Abstract: The New Source Performance Standards (NSPS) subpart BBB applies to affected facilities in rubber tire manufacturing plants that commence construction, modification or reconstruction after January 20, 1983. The affected facilities include: Each undertread cementing operation, each sidewall cementing operation, each tread end cementing operation, each bead cementing operation, each green tire spraying operation, each Michelin-A operation, each Michelin-B operation, each Michelin-C automatic operation. The rule establishes standards for volatile organic compounds (VOCs) use and emission limits.

Monitoring, recordkeeping and reporting requirements allow the regulatory agencies to determine compliance with the standard. One-time-only reports are required to identify the affected facilities and the compliance method used. Notification of Method 25 performance is also required. Annual reports of Method 24 results to verify VOC content of water-based sprays would be required.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 167 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of rubber tire manufacturing plants.

Estimated Number of Respondents: 41.

Frequency of Response: Annually, semiannually, initially.

Estimated Total Annual Hour Burden: 13,323 hours.

Estimated Total Annual Costs: $866,093, which includes $0 annualized capital/startup costs, $16,000 annual O&M costs, and $850,093 annual labor costs.

Changes in the Estimates: There is an increase in 172 hours in the total estimated burden currently identified in the OMB Inventory of Approved ICR Burdens. The reason for the change is due to the inclusion of managerial and clerical person-hours. The active ICR only covered technical burden hours.

The increase in labor cost from the most recently approved ICR is due to a revised hourly labor rate from the United States Department of Labor.

Dated: September 5, 2004.
Oscar Morales,
Director, Collection Strategies Division.

[FR Doc. 04-20976 Filed 9-16-04; 8:45 am]

BILLING CODE 6560-50-P